INTERNATIONAL TRADE COMMISSION

[Investigation No. 701-TA-746-747 and 731-TA-1724-1725 (Final)]

Overhead Door Counterbalance Torsion Springs From China and India; Revised Schedule for the Subject Investigations

AGENCY: United States International Trade Commission.

ACTION: Notice.

DATES: June 17, 2025.

FOR FURTHER INFORMATION CONTACT: Peter Stebbins (202-205-2039), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On June 2, 2025, the Commission established a schedule for the conduct of the final phase of the subject investigations (90 FR 24665, June 11, 2025). The Commission is revising its schedule to address scheduling conflicts.

The Commission's revised dates in the schedule are as follows: the prehearing staff report will be placed in the nonpublic record on August 5, 2025; prehearing briefs and requests to appear at the hearing must be filed with the Secretary to the Commission not later than 5:15 p.m. on August 11, 2025; the prehearing conference will be held at the U.S. International Trade Commission Building on August 13, 2025, if deemed necessary; parties shall file and serve written testimony and presentation slides in connection with their presentation at the hearing by no later than noon on August 14, 2025; the hearing will be held at the U.S. International Trade Commission Building at 9:30 a.m. on August 15, 2025; the deadline for filing posthearing briefs is 5:15 p.m. on August 22, 2025. In addition, any person who has not entered an appearance as a party to the investigations may submit a written statement of information pertinent to the subject of the investigations, including statements of support or opposition to the petition, on or before August 22, 2025.

For further information concerning this proceeding, see the Commission's notice cited above and the Commission's Rules of Practice and Procedure, part 201, subparts A through E (19 CFR part 201), and part 207, subparts A and C (19 CFR part 207).

Authority: These investigations are being conducted under authority of title VII of the Tariff Act of 1930; this notice is published pursuant to § 207.21 of the Commission's rules.

By order of the Commission.
Issued: June 18, 2025.
Lisa Barton,
Secretary to the Commission.

[FR Doc. 2025-11464 Filed 6-20-25; 8:45 am]

BILLING CODE 7020-02-P